DEPARTMENT OF TRANSPORTATION

Federal Railroad Administration

[Docket Number FRA-2022-0092]

Petition for Waiver of Compliance

Under part 211 of title 49 Code of Federal Regulations (CFR), this document provides the public notice that on October 14, 2022, the Long Island Rail Road (LIRR) petitioned the Federal Railroad Administration (FRA) for a waiver of compliance from a provision of the Federal railroad safety regulations contained at 49 CFR 236.1005(c), Hazard detectors. FRA assigned the petition Docket Number FRA-2022-0092.

Specifically, LIRR is seeking relief from § 236.1005(c) because the Advanced Civil Speed Enforcement System II (ACSES II) Tunnel Collision Avoidance (TCA) package for LIRR's locomotives will not be completed before LIRR's commencement of its East Side Access passenger service and the opening of the Grand Central Madison tunnels. LIRR notes it has existing hazard detection, which protects against the misrouting of oversized trains, within LIRR's cab signaling and automatic train control system. LIRR also describes how its operating practices provide additional protection. LIRR is seeking a temporary waiver from § 236.1005(c) because LIRR's positive train control system, ACSES II, is currently not integrated with, and does not enforce, LIRR's hazard detector, as § 236.1005(c) otherwise requires.

Exhibit A to LIRR's petition describes the exact measures LIRR will use during the period of its temporary waiver, if granted, to ensure oversize trains are not routed to, and do not enter, the tunnels. LIRR also explains that “[a]s soon as the new ACSES software which includes the TCA functionality can be deployed to the LIRR rolling stock fleet, [positive train stop (PTS)] enforcement at permissive aspects for oversized LIRR trains will be provided.” LIRR's petition for a waiver also includes a statement of no objection from Amtrak, its applicable tenant railroad.

A copy of the petition, as well as any written communications concerning the petition, is available for review online at https://www.regulations.gov.

Interested parties are invited to participate in these proceedings by submitting written views, data, or comments. All communications concerning these proceedings should identify the appropriate docket number and may be submitted at https://www.regulations.gov. Follow the online instructions for submitting comments.

Communications received by November 15, 2022, will be considered by FRA before final action is taken. Comments received after that date will be considered if practicable. Given the urgent nature of this waiver request and the resulting abbreviated comment period, FRA will be holding a virtual question and answer session on November 7, 2022, from 3:00 p.m. to 7:00 p.m. EST. During this session, FRA will be available to answer technical questions relating to LIRR's waiver petition. Please use the following link to obtain further information regarding this virtual question and answer session: https://railroads.dot.gov/LIRR-ESA-PTC-waiver.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to https://www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-22848 Filed 10-20-22; 8:45 am]

BILLING CODE 4910-06-P